DEPARTMENT OF HEALTH AND HUMAN SERVICES

Office of Public Health and Science; Announcement of Availability of Grants for Adolescent Family Life Demonstration Projects

AGENCY: Office of Adolescent Pregnancy Programs, Office of Population Affairs, OPHS, HHS.

ACTION: Notice.

SUMMARY: The Office of Adolescent Pregnancy Programs (OAPP) requests applications for care demonstration grants under the Adolescent Family Life (AFL) Demonstration Projects Program, as authorized by Title XX of the Public Health Service Act. Funds will be available for approximately 15-20 care demonstration projects, which may be located in any State, the District of Columbia, and United States territories, commonwealths and possessions. These grants are for community-based and community-supported demonstration projects to establish comprehensive and integrated approaches to the delivery of care services to pregnant adolescents, adolescent parents, their partners, children, and extended family members. Faith-based organizations are eligible to apply for these demonstration grants. Funds are not currently available for primary prevention/abstinence education demonstration projects targeting nonpregnant adolescents.

DATES: The closing date for this grant announcement is April 30, 2001. Applications will be considered as meeting the deadline if they are postmarked on or before the closing date. A legibly dated receipt from a commercial carrier or U.S. Postal Service will be accepted in lieu of a postmark. Private metered postmarks will not be accepted as proof of timely mailing. All hand delivered applications must be received between the hours of 8:30 a.m. and 5 p.m. on or before the above closing date. Applications which do not meet the deadline will be considered late applications and will be returned to the applicant. Applications will not be accepted by fax or e-mail. The submission deadline will not be extended.

ADDRESSES: Application kits consisting of the appropriate forms, a copy of the Title XX legislation, and guidance on the preparation of the application may be downloaded from the following Internet address: www.dhhs.gov/opa. If you do not have access to the Internet, you may obtain a kit from the Grants Management Office by calling (301) 594-4012 or by writing to the Office of Grants Management, Office of Population Affairs, 4350 East-West Highway, Suite 200, Bethesda, MD 20814. Written requests for application kits may be faxed to (301) 594-5981. All completed applications must be submitted to the Grants Management Office at the above mailing address. In preparing the application, it is important to follow ALL instructions contained in the application kit.

FOR FURTHER INFORMATION CONTACT: The OAPP Program Office at (301) 594-4004. OAPP staff members are available to answer questions and provide limited technical assistance in the preparation of grant applications. Questions also may be sent to OAPP staff via e-mail at opa@osophs.dhhs.gov. If contacting the OAPP by e-mail, please place the phrase “AFL Care Application Question” in the subject heading.

SUPPLEMENTARY INFORMATION: Title XX of the Public Health Service Act, 42 U.S.C. 300z, et seq., authorizes the Secretary of Health and Human Services to award grants for demonstration projects to provide services to pregnant and nonpregnant adolescents, adolescent parents and their families. (Catalog of Federal Domestic Assistance Number 93.995) Title XX authorizes grants for three types of demonstration projects: (1) Projects which provide “care services” only (i.e., services for the provision of care to pregnant adolescents, adolescent parents, their children, young fathers, and their families); (2) projects which provide “prevention services” only (i.e., services to prevent adolescent sexual relations); and (3) projects which provide a combination of care and prevention services.

Under this program announcement, OAPP intends to make available approximately $5 million to support an estimated 15-20 new care services demonstration projects. The awards for care projects will range from $250,000 to $350,000 per year. Please note, in Fiscal Year (FY) 2000, OAPP issued a similar Request for Applications (RFA) announcing approximately $4 million for new care demonstration projects. In response to the FY 2000 RFA, OAPP received 143 grant applications and was able to fund 19 new projects. With $5 million available for care grants in FY 2001, we anticipate funding approximately 15-20 new projects under this program announcement.

Grants may be approved for project periods of up to five years. Grants are funded in annual increments (budget periods). Funding for all approved budget periods beyond the first year of the grant is contingent upon the availability of funds, satisfactory progress of the project, and adequate stewardship for Federal funds. Cost sharing by the grantee is a requirement per Title XX of the PHS Act. A grant award may not exceed 70 percent of the total costs of the project for the first and second years, 60 percent of the total costs for the third year, 50 percent for the fourth year and 40 percent for the fifth year. The non-Federal share of the project costs may be provided in cash expenditures or fairly evaluated in-kind contributions, including facilities, equipment and services.

Applications are encouraged from experienced organizations which are currently operating programs and which have the capability of expanding and enhancing these services to serve significant numbers of adolescents according to the guidance specified in this announcement.

The specific services which may be funded under Title XX are listed below under the heading entitled Care Services. Care Services, under this program announcement, should be provided primarily to pregnant adolescents and adolescent parents, their partners, children, and extended family members. There are no funds available for primary prevention/abstinence education demonstration projects under this announcement.

The following application requirements contain information collections subject to the Office of Management and Budget (OMB) approval under the Paperwork Reduction Act of 1995 (Pub. L. 104-13). These information collections have been approved by OMB under control number 0937-0198.

Technical Assistance

The OAPP has scheduled a series of technical assistance workshops to help prospective applicants. At each of the one-day workshops, the public will be able to learn more about the purposes and requirements of the Title XX program, how to apply for funds under this program announcement, program eligibility requirements, the application selection process, and considerations that might help to improve the quality of grant applications. This workshop is offered at no cost. However, all participants must preregister using the form at http://www.hhs.gov/opa/titlexx/oapp.html. If you do not have access to the Internet, you may obtain a registration form from the Office of Adolescent Pregnancy Programs (OAPP) at (301) 594-4004. Written requests for registration forms may be faxed to (301) 594-5981. The address of workshop and logistical information will be faxed or e-mailed back to you upon receipt of your registration.

Workshop Dates and Locations

March 26, 2001: Washington, DC

March 27, 2001: Kansas City, MO

March 28, 2001: Chicago, IL

March 30, 2001: San Francisco, CA

Eligible Applicants

Any public or private nonprofit organization or agency is eligible to apply for a grant. However, only those organizations or agencies which demonstrate the capability of providing the proposed services and meet the statutory requirements are considered for grant awards.

Care Services

Under this announcement, funds are available for local (not national or regional) care demonstrations only. The project site must be identified in the application rather than selected after the grant is awarded.

Under the statute, the purpose of care programs is to establish innovative, comprehensive, and integrated approaches to the delivery of care services for pregnant adolescents and adolescent parents under 19 years of age at program entry, with primary emphasis on unmarried adolescents who are 17 years old or younger and for their families. This includes young fathers and their families.

Adolescent health experts, public health officials, sociologists, and the medical community have long agreed that to effectively implement programs for youth, Federal, state and local level programs must include multiple and complementary approaches to providing services. The OAPP encourages a holistic approach to preventing secondary teen pregnancies and providing services to pregnant and parenting adolescents. It has been documented that successful projects are those where adolescents themselves are an integral part of the design, implementation, and evaluation phases over the life of the project. Adolescents need to see hope for a future, acquire the skills necessary to turn hopes into reality, and be provided with an array of opportunities to get them to reach that reality. In addition, the OAPP encourages applicants to provide opportunities for improving an adolescent's sense of self through cultural understanding and other activities that build an adolescent's sense of self-worth and self-efficacy. All services provided by AFL grantees, however, including all activities that are part of a holistic and comprehensive approach, must be within the scope of the Title XX care services listed below.

The OAPP encourages the submission of care applications which propose to do the following: (1) Add care services to supplement existing adolescent health services in school, hospital or other community settings, (2) provide care services to minority or disadvantaged populations, (3) continue services to clients after the delivery of the baby to enable them to acquire good parenting skills and to ensure that their children are developing normally physically, intellectually and emotionally, (4) stress self-sufficiency skills, such as school completion (in mainstream or alternative schools and GED programs) and job training and placement, (5) involve males and promote male responsibility, and (6) provide Sexually Transmitted Infection (STI) and HIV prevention counseling. Applicants should base their approach upon a review of current literature and an assessment of existing programs. Where appropriate, applicants should propose to establish better coordination, integration and linkages among such existing programs or replicate existing programs in their own community. Letters of commitment by partner or linkage agencies should be included with the application.

Applicants for care projects are required to provide, either directly or by referral, the following 10 core services:

(1) Pregnancy testing and maternity counseling;

(2) Adoption counseling and referral services which present adoption as an option for pregnant adolescents, including referral to licensed adoption agencies in the community if the eligible grant recipient is not a licensed adoption agency;

(3) Primary and preventive health services, including prenatal and postnatal care;

(4) Nutrition information and counseling;

(5) Referral for screening and treatment of STIs, including HIV/AIDS;

(6) Referral to appropriate pediatric care;

(7) Educational services relating to family life and problems associated with adolescent premarital sexual relations including:

(a) Information about adoption;

(b) Education on the responsibilities of sexuality and parenting;

(c) The development of material to support the role of parents as the providers of sex education; and

(d) Assistance to parents, schools, youth agencies and health providers to educate adolescents and preadolescents concerning self-discipline and responsibility in human sexuality;

(8) Appropriate educational and vocational services;

(9) Mental health services and referral to mental health services and to other appropriate physical health services; and

(10) Counseling and referral for family planning services.

Note: Funds provided under Title XX may not be used for the provision of family planning services other than counseling and referral services unless appropriate family planning services are not otherwise available in the community. In accordance with section 2006(a)(17) of Title XX (42 U.S.C. 300z-5(a)(17)), applicants must make maximum use of funds available under the Title X Family Planning Program in providing this required core service.

In addition to the 10 required core services listed above, applicants for care projects may provide any of the following supplemental services:

(1) Referral to licensed residential care or maternity home services;

(2) Child care sufficient to enable the adolescent parent to continue education or to enter into employment;

(3) Consumer education;

(4) Counseling for the immediate and extended family members of the eligible person;

(5) Transportation; and

(6) Outreach services to families of adolescents to discourage sexual relations among unemancipated minors.

Evaluation

Section 2006(b)(1) of Title XX requires each grantee to expend at least one percent but not more than five percent of the Federal funds received under Title XX on evaluation of the project. Waivers above the five percent limit on evaluation may be granted in cases where a more rigorous or comprehensive evaluation effort is proposed (see sec. 2006(b)(1)). As this is a demonstration program, all applications are required to have an evaluation component of high quality consistent with the scope of the proposed project and the funding.

The OAPP encourages applications to include a proposed goal(s) and related outcome objectives. A goal is a general statement of what the project hopes to accomplish and it should reflect the long-term desired impact of the project on the target group(s) as well as reflect the program goals of the OAPP contained in this program announcement. An outcome objective is a statement which defines a measurable result the project expects to accomplish. Outcome objectives should be described in terms that measure the result the project will bring about (e.g., decrease in repeat adolescent births among treatment group, increase in parenting skills). Good applications should contain a few outcome objective that are specific, measurable, achievable, realistic and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: the accomplishment specified in the objective should be achievable within the proposed time line and as a direct result of program activities.

Realistic: the objective should be reasonable in nature. The specified outcomes, expected results, should be described in realistic terms.

Time-framed: An outcome objective should specify a target date or time for its accomplishments. It should state who is going to be doing what, by when, etc.

How to Get Grants. San Francisco, CA: The Public Management Institute, 1981.

Section 2006(b)(2) of Title XX requires that the evaluations be conducted by an organization or entity independent of the grantee providing services. To assist in conducting the evaluations, each grantee shall develop a working relationship with an evaluator associated with a college or university located in the grantee's state which will assist in providing monitoring and evaluation of the proposed program. The OAPP strongly recommends extensive collaboration between the applicant organization and the proposed evaluator in the development of the program goals and objectives of the intervention, identification of the variable to be measured, a clear and organized timetable for initiation of the intervention, baseline measurement, and ongoing evaluation data collection and analysis strategies. Additionally, it is also important to establish this collaborative relationship between the applicant organization and the proposed evaluator early to ensure that the project's proposed goals and objectives and the evaluation are consistent with each other. The proposed evaluator should be included in program planning activities to ensure that there is uniformity in the intended outcomes of the program.

Application Requirements

Applications must be submitted on the forms supplied in the application kit provided by the OAPP (PHS 5161-1, Revised 7/00). The PHS 5161-1 can also be downloaded from the INTERNET at the following address: http://forms.psc.gov/forms/PHS/phs.html. These forms must be completed in the manner prescribed in the application kits provided by the OAPP. Incomplete applications will be returned to the applicant. Applicants are required to submit an application signed by an individual authorized to act for the applicant agency or organization and to assume for the organization the obligations imposed by the terms and conditions of the grant award.

Applicants must be familiar with Title XX in its entirety to ensure that they have complied with all applicable requirements. A copy of the legislation is included in the application kit.

Additional Requirements

Applicants for grants must also meet both of the following requirements (each year):

(1) Requirements for Review of an Application by the Governor. Section 2006(e) of Title XX requires that each applicant shall provide the Governor of the State in which the applicant is located a copy of each application submitted to OAPP for a grant for a demonstration project for services under this Title. The Governor has 60 days from the receipt date in which to provide comments to the applicant.

An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC) Requirements). Applicants under this announcement are subject to the review requirements of Executive Order 12372, “Intergovernmental Review of Federal Programs,” as implemented by 45 CFR part 100, “Intergovernmental Review of Department of Health and Human Services Programs and Activities.” Executive Order 12372 sets up a system for state and local government review of proposed Federal assistance applications. As soon as possible, the applicant (other than Federally-recognized Indian tribal governments) should contact the States Single Point of Contact (SPOC) for each state in the area to be served. The application kit contains the currently available listing of the SPOCs which have elected to be informed of the submission of applications. For those states not represented on the listing, further inquiries should be made by the applicant regarding submission to the relevant SPOC. The SPOC's comment(s) should be forwarded to the Grants Management Office, Office of Population Affairs, 4350 East-West Highway, Suite 200, Bethesda, MD 20814. The SPOC has 60 days from the closing date of this announcement to submit any comments.

Application Assessment and Evaluation Criteria

Applications which are judged to be late, incomplete or which do not conform to the requirements of this program announcement will not be accepted for review. Applicants will be so notified, and the application will be returned. All other applications will be reviewed by multi-disciplinary panels of independent reviewers and assessed according to the following criteria:

(1) The applicant's provision of a clear statement of mission, goals, measurable (outcome) objectives, reasonable methods for achieving the objectives, a reasonable work plan and timetable, and clear statements of expected results. (25 points)

(2) The capacity of the applicant to implement the program, including personnel and other resources, and the applicant's experience and expertise in providing programs for adolescents. (15 points)

(3) The population the project proposes to serve, including ethnic composition, number of pregnant and/or parenting adolescent clients, infants, male partners, family members and community members. [Healthy People 2010 is a set of health objectives for the Nation to achieve over the first decade of the new century. The two goals of Healthy People 2010 are to increase quality of years of healthy life and to eliminate health disparities. In evaluating this criterion, priority will be given to programs who serve minority populations in order to eliminate health disparities.] (15 points)

(4) The applicant's presentation of a detailed evaluation plan, indicating an understanding of program evaluation methods, and reflecting a practical and technically sound approach to assessing the project's achievement of program objectives. (15 points)

(5) The applicant's presentation of the need for the project, including the incidence of adolescent pregnancy in the geographic area to be served and the availability of services for adolescents within this geographic area. (10 points)

(6) The applicant's presentation of an organizational model for service delivery with appropriate design, consistent with the requirements of Title XX. (10 points)

(7) The community commitment to and involvement in planning and implementation of the project, as demonstrated by letters of commitment and willingness to participate in the project's implementation, acceptance of referrals, etc. (10 points)

Final grant award decisions will be made by the Deputy Assistant Secretary for:

Population Affairs. In making these decisions, the Deputy Assistant Secretary for Population Affairs will take into account the extent to which grants recommended for approval will provide an appropriate geographic distribution of resources, the priorities in section 2005(a) of Title XX, and the other factors including consideration of:

1. Recommendations and scores submitted by the review panels;

2. The geographic area to be served, particularly the needs of rural areas;

3. The reasonableness of the estimated cost of the project based on factors such as the incidence of adolescent pregnancy in the geographic area to be served and the availability of services for adolescents in this geographic area;

4. The usefulness for policymakers and service providers of the proposed project and its potential for replication.

Applicants will be notified by letter of the outcome of their applications, after final funding decisions are made. The official document notifying an applicant that an application has been approved for funding is the Notice of Grant Award, which specifies to the grantee the amount of money awarded, the purpose of the grant, the terms and conditions of the grant award, and the amount of funding to be contributed by the grantee to project costs.

Dated: March 2, 2001.
Mireille B. Kanda,
Acting Director for Population Affairs.

[FR Doc. 01-6058 Filed 3-9-01; 8:45 am]

BILLING CODE 4160-17-M